DEPARTMENT OF COMMERCE

National Oceanic and Atmospheric Administration

[I.D. 111005C]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of its Texas Habitat Protection Advisory Panel (AP).

DATES: The Texas Habitat Protection AP will meet from 9 a.m. to 4 p.m. on Tuesday, December 6, 2005.

ADDRESSES: The meeting will be held at the Hilton Houston Hobby Airport, 8181 Airport Boulevard, Houston, TX 77061; telephone: 713-645-3000.

Council address: Gulf of Mexico Fishery Management Council, 2203 North Lois Avenue, Suite 1100, Tampa, FL 33607.

FOR FURTHER INFORMATION CONTACT: Jeff Rester, Habitat Specialist, Gulf States Marine Fisheries Commission, Post Office Box 726, Ocean Springs, MS 39564; telephone 228-875-5912.

SUPPLEMENTARY INFORMATION: The Texas Habitat Protection AP will convene to discuss the following topics: the Sabine-Neches waterway deepening project; the comprehensive restoration plan for west Galveston Island; changes to 316b of the Clean Water Act rules; potential fishery impacts of liquefied natural gas facilities; and the status of beneficial use sites in Galveston Bay.

The Texas Habitat Protection AP is comprised of representatives from the recreational and commercial fishing groups, conservation organizations, academia, and state and federal resource agencies. The Texas group is part of a three unit Habitat Protection Advisory Panel (AP) of the Gulf of Mexico Fishery Management Council. The principal role of the advisory panels is to assist the Council in attempting to maintain optimum conditions within the habitat and ecosystems supporting the marine resources of the Gulf of Mexico. Advisory panels serve as a first alert system to call to the Council's attention proposed projects being developed and other activities which may adversely impact the Gulf marine fisheries and their supporting ecosystems. The panels may also provide advice to the Council on its policies and procedures for addressing environmental affairs.

Although non-emergency issues not contained in the agendas may come before the AP for discussion, in accordance with the Magnuson-Stevens Fishery Conservation and Management Act (Magnuson-Stevens Act), those issues may not be the subject of formal action during these meetings. Action will be restricted to those issues specifically identified in this notice and any issues arising after publication of this notice that require emergency action under section 305(c) of the Magnuson-Stevens Act, provided the public has been notified of the Council's intent to take final action to address the emergency.

Copies of the meeting agenda can be obtained by calling the Council office at 813-348-1630.

Special Accommodations

This meeting is physically accessible to people with disabilities. Requests for sign language interpretation or other auxiliary aids should be directed to Dawn Aring at the Council (see ADDRESSES) at least 5 working days prior to the meeting.

Dated: November 10, 2005.
Tracey Thompson,
Acting Director, Office of Sustainable Fisheries, National Marine Fisheries Service.

[FR Doc. E5-6312 Filed 11-15-05; 8:45 am]

BILLING CODE 3510-22-S